ENVIRONMENTAL PROTECTION AGENCY

[FRL-8319-6]

Reissuance of the NPDES General Permit for Oil and Gas Exploration, Development and Production Facilities Located in State and Federal Waters in Cook Inlet (Permit Number AKG-31-5000)

AGENCY: Environmental Protection Agency (EPA).

ACTION: Notice of availability of final NPDES general permit.

SUMMARY: The Director, Office of Water and Watersheds, EPA Region 10, is publishing notice of availability of the final National Pollutant Discharge Elimination System (NPDES) general permit authorizing discharges from exploration, development, and production platforms and related facilities in Cook Inlet, Alaska, pursuant to the provisions of the Clean Water Act, 33 U.S.C. 1251 et seq. The general permit contains conditions and limitations that conform to the Offshore and Coastal Subcategories of the Oil and Gas Extraction Point Source Effluent Limitations Guidelines, set forth at 40 CFR Part 435, subparts A and D, as well as additional requirements that ensure that the regulated discharges will not cause unreasonable degradation of the marine environment, as required by section 403(c) of the Clean Water Act (i.e., the Ocean Discharge Criteria), 33 U.S.C. 1343(c). New facilities seeking permit coverage must submit a Notice of Intent (NOI) at least 30 days prior to discharge.

The general permit expands the existing coverage area to include the Minerals Management Service Lease Sales Nos. 191 and 199, and the State waters adjoining those lease areas. The general permit also authorizes discharges from oil and gas exploration, development and production facilities, however, new development and production facilities are not authorized to discharge produced water, drilling fluids, or drill cuttings. A fact sheet has also been prepared which sets forth the principle factual, legal, policy, and scientific information considered in the development of the general permit.

DATES: The NPDES general permit shall become effective on July 2, 2007.

Public Comment: On April 1, 2004, the previous NPDES general permit expired. Pursuant to section 402 of the Clean Water Act, 33 U.S.C. 1342, EPA proposed to reissue the general permit and solicited comments on the draft general permit in the Federal Register on March 1, 2006. Notice of the draft general permit was also published in the Anchorage Daily News, the Homer Tribune, and the Peninsula Clarion. There was an initial 60 day public comment period which EPA extended for an additional 30 days. Thus, the entire public comment period extended 90 days. Public hearings were held in Anchorage, Homer, and Kenai/Soldotna. The comment period ended on May 31, 2006.

Changes have been made from the draft permit to the final permit in response to comments received from Tribal representatives, environmental advocacy groups, industry representatives, government agencies, trade organizations, and individual citizens. All comments, along with EPA's responses, are summarized in the Response to Comment document and comment database.

ADDRESSES: Copies of the general permit, the Response to Comment document and comment database are available upon request. Written requests may be submitted to EPA Region 10, 1200 Sixth Avenue OWW-130, Seattle, WA 98101. Electronic requests may be e-mailed to: washington.audrey@epa.gov or shaw.hanh@epa.gov.

FOR FURTHER INFORMATION CONTACT: The general permit, Fact Sheet, Response to Comment document and comment database may be found on the Region 10 Web site at: http://www.epa.gov/r10earth/waterpermits.htm (under General Permits, Oil and Gas). Telephone requests for copies may be made to Audrey Washington at (206) 553-0523 or to Hanh Shaw at (206) 553-0171.

Other Legal Requirements

State Water Quality Standards and State Certification

Pursuant to Section 401 of the Clean Water Act, 33 U.S.C. 1341, on May 18, 2007, the Alaska Department of Environmental Conservation (ADEC) certified that the conditions of the general permit comply with the Alaska State Water Quality Standards (Alaska Administrative Code 18 AAC 15, 18 AAC 70, and 18 AAC 72), including the State's antidegradation policy.

State of Alaska Coastal Zone Management Act

On May 31, 2006, the Department of Natural Resources, Office of Project Management and Permitting agreed with EPA's consistency determination under the Alaska Coastal Zone Management Act.

Endangered Species Act

EPA has determined that the issuance of the general permit is not likely to adversely affect any threatened or endangered species, designated critical habitat, or essential fish habitat. The National Marine Fisheries Service (NMFS) and the U.S. Fish and Wildlife Service (USFWS) concurred with EPA's determination.

Executive Order 12866

EPA has determined that this general permit is not a “significant regulatory action” under the terms of Executive Order 12866 and is therefore not subject to Office of Management and Budget (OMB) review.

Paperwork Reduction Act

The information collection requirements of this general permit were previously approved by the OMB under the provisions of the Paperwork Reduction Act, 44 U.S.C. 3501 et seq., and assigned OMB control numbers 2040-0086 (NPDES permit application) and 2040-0004 (discharge monitoring reports).

Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b), and is therefore not subject to the RFA.

Unfunded Mandates Reform Act

Section 201 of the Unfunded Mandates Reform Act (UMRA), Public Law 104-4, generally requires federal agencies to assess the effects of their “regulatory actions” (defined to be the same as “rules” subject to the RFA) on tribal, state, and local governments and the private sector. However, the general permit issued today is not a “rule” subject to the RFA, and is therefore not subject to the UMRA.

Appeal of Permit

Any interested person may appeal the general permit in the Federal Court of Appeals in accordance with section 509(b)(1) of the Clean Water Act, 33 U.S.C. 1369(b)(1). This appeal must be filed within 120 days of the permit effective date. Persons affected by the permit may not challenge the conditions of the permit in further EPA proceedings (see 40 CFR 124.19). Instead, they may either challenge the permit in court or apply for an individual NPDES permit.

Signed this 21st day of May, 2007.
Michael F. Gearheard,
Director, Office of Water and Watersheds, Region 10.

[FR Doc. E7-10456 Filed 5-30-07; 8:45 am]

BILLING CODE 6560-50-P